DEPARTMENT OF HEALTH AND HUMAN SERVICES

Centers for Disease Control and Prevention

[30Day-69-03]

Proposed Data Collections Submitted for Public Comment and Recommendations Withdrawal

A notice announcing a 30-Day comment period for the proposed project: Health and Safety Outcomes Related to Work Schedules in Nurses—NEW—The National Institute for Occupational Safety and Health (NIOSH), Centers for Disease Control and Prevention (CDC) was inadvertently republished in the Federal Register November 5, 2003, [68 FR 62607 through 62608]. This notice is hereby withdrawn.

The official publication of this notice was September 18, 2003, [68 FR 54732] and stands as published.

Dated: November 10, 2003.
James D. Seligman,
Chief Information Officer, Office of the Chief Operations Officer, Centers for Disease Control and Prevention (CDC).

[FR Doc. 03-28602 Filed 11-14-03; 8:45 am]

BILLING CODE 4163-18-P